DEPARTMENT OF COMMERCE

National Oceanic and Atmospheric Administration

[RTID 0648-XB800]

North Pacific Fishery Management Council; Public Meeting

AGENCY: National Marine Fisheries Service (NMFS), National Oceanic and Atmospheric Administration (NOAA), Commerce.

ACTION: Notice of web conference.

SUMMARY: The North Pacific Fishery Management Council (Council) Pacific Northwest Crab Industry Advisory Committee (PNCIAC) will meet March 2, 2022.

DATES: The meeting will be held on Wednesday, March 2, 2022, from 9 a.m. to 10:30 a.m., Alaska Time.

ADDRESSES: The meeting will be a web conference. Join online through the link at https://meetings.npfmc.org/Meeting/Details/2813.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Sarah Marrinan, Council staff; phone; (907) 271-2809; email: sarah.marrinan@noaa.gov. For technical support please contact our admin Council staff, email: npfmc.admin@noaa.gov.

SUPPLEMENTARY INFORMATION:

Agenda

Wednesday, March 2, 2022

The Committee will discuss: (a) March 2022 Board of Fisheries proposals; (b) shifting crab stocks and boundary issues; (c) opilio rebuilding; (d) Bristol Bay Red King Crab discussion papers; (e) bairdi industry preferred size; (f) season start date; (g) elections due in December 2022; and (h) other business. The agenda is subject to change, and the latest version will be posted https://meetings.npfmc.org/Meeting/Details/2813 prior to the meeting, along with meeting materials.

Connection Information

You can attend the meeting online using a computer, tablet, or smart phone; or by phone only. Connection information will be posted online at: https://meetings.npfmc.org/Meeting/Details/2813.

Public Comment

Public comment letters will be accepted and should be submitted electronically to https://meetings.npfmc.org/Meeting/Details/2813.

Authority: 16 U.S.C. 1801 et seq.

Dated: February 7, 2022.
Tracey L. Thompson,
Acting Deputy Director, Office of Sustainable Fisheries, National Marine Fisheries Service.

[FR Doc. 2022-02843 Filed 2-9-22; 8:45 am]

BILLING CODE 3510-22-P